U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to monitor, investigate, and report to Congress annually on “the national security implications of the economic relationship between the United States and the People's Republic of China.” Pursuant to this mandate, the Commission will hold a public hearing in Washington, DC on March 1, 2024 on “Consumer Products from China: Safety, Regulations, and Supply Chains.”

DATES: The hearing is scheduled for Friday, March 1, 2024 at 9:30 a.m.

ADDRESSES: Members of the public will be able to attend in person at a location TBD or view a live webcast via the Commission's website at www.uscc.gov. Visit the Commission's website for updates to the hearing location or possible changes to the hearing schedule. Reservations are not required to view the hearing online or in person.

FOR FURTHER INFORMATION CONTACT: Any member of the public seeking further information concerning the hearing should contact Jameson Cunningham, 444 North Capitol Street NW, Suite 602, Washington, DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION:

Background: This is the second public hearing the Commission will hold during its 2024 reporting cycle. The hearing will initially address the safety and quality of consumer products imported from China and the extent to which U.S. consumers, firms, and regulators are able to detect and respond to risks presented by unsafe and poor-quality imports. Next, the hearing will examine how shifts in global trade patterns affect U.S. supply chain resiliency, focusing on Chinese firms moving manufacturing abroad as well as attempts by Chinese firms to circumvent U.S. tariffs via transshipment through intermediary countries. Finally, the hearing will assess the Chinese government's economic and policy support for its domestic manufacturing sector and consider the potential impact of these policies on China and the United States.

The hearing will be co-chaired by Commissioner Robin Cleveland and Commissioner Kimberly T. Glas. Any interested party may file a written statement by March 1, 2024 by transmitting it to the contact above. A portion of the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: February 12, 2024.
Daniel W. Peck,
Executive Director, U.S.-China Economic and Security Review Commission.

[FR Doc. 2024-03174 Filed 2-14-24; 8:45 am]

BILLING CODE 1137-00-P